DEPARTMENT OF HOMELAND SECURITY

Coast Guard

[Docket No. USCG-2016-0082]

Merchant Marine Personnel Advisory Committee

AGENCY: Coast Guard, DHS.

ACTION: Notice of Federal Advisory Committee Meeting.

SUMMARY: The Merchant Marine Personnel Advisory Committee and its working groups will meet to discuss various issues related to the training and fitness of merchant marine personnel. The meetings will be open to the public.

DATES: The Merchant Marine Personnel Advisory Committee and its working groups are scheduled to meet on March 16, 2016, from 8 a.m. until 5:30 p.m., and the full Committee is scheduled to meet on March 17, 2016, from 8 a.m. until 5:30 p.m. Please note that these meetings may adjourn early if the Committee has completed its business.

ADDRESSES: The meetings will be held at Crowley Maritime Corporation, 1st Floor Conference Room, 9487 Regency Square Blvd., Jacksonville, FL 32225-8183 (http://www.crowley.com). For further information about the meeting facilities, please contact Ms. Becky Kelly at (904) 727-4213. Please be advised that all attendees are required to check-in to the visitor's booth located to the right of the main building entrance. All attendees will be required to provide government-issued picture identification in order to gain admittance to the building. For planning purposes, please notify the Merchant Marine Personnel Advisory Committee Alternate Designated Federal Officer of your attendance as soon as possible using the contact information provided in the FOR FURTHER INFORMATION CONTACT section of this notice.

For information on facilities or services for individuals with disabilities or to request special assistance at the meeting, contact the Alternate Designated Federal Officer as soon as possible.

To facilitate public participation, we are inviting public comment on the issues to be considered by the Committee as listed in the “Agenda” section below. Written comments for distribution to Committee members must be submitted no later than March 9, 2016, if you want the Committee members to be able to review your comments before the meeting, and must be identified by docket number USCG-2016-0082. Written comments may be submitted using the Federal eRulemaking Portal at http://www.regulations.gov. If your material cannot be submitted using http://www.regulations.gov, contact the Alternate Designated Federal Officer for alternate instructions.

Instructions: All submissions received must include the words “Department of Homeland Security” and the docket number for this action. Comments received will be posted without alteration at http://www.regulations.gov, including any personal information provided. You may review a Privacy Act notice regarding the Federal Docket Management System in the March 24, 2005, issue of the Federal Register (70 FR 15086).

Docket: For access to the docket to read documents or comments related to this notice, go to http://www.regulations.gov, type USCG-2016-0082 in the Search box, press Enter, and then click on the item you wish to view.

FOR FURTHER INFORMATION CONTACT: Mr. Davis Breyer, Alternate Designated Federal Officer of the Merchant Marine Personnel Advisory Committee, 2703 Martin Luther King Jr. Ave. SE., Stop 7509, Washington, DC 20593-7509, telephone 202-372-1445, fax 202-372-8382, or Davis.J.Breyer@uscg.mil.

SUPPLEMENTARY INFORMATION: Notice of this meeting is given under the Federal Advisory Committee Act, Title 5 United States Code Appendix.

The Merchant Marine Personnel Advisory Committee was established under authority of section 310 of the Howard Coble Coast Guard and Maritime Transportation Act of 2014, Title 46, United States Code, section 8108, and chartered under the provisions of the Federal Advisory Committee Act, (Title 5, United States Code, Appendix). The Committee acts solely in an advisory capacity to the Secretary of the Department of Homeland Security through the Commandant of the Coast Guard on matters relating to personnel in the United States merchant marine, including training, qualifications, certification, documentation, and fitness standards and other matters as assigned by the Commandant; shall review and comment on proposed Coast Guard regulations and policies relating to personnel in the United States merchant marine, including training, qualifications, certification, documentation, and fitness standards; may be given special assignments by the Secretary and may conduct studies, inquiries, workshops, and fact finding in consultation with individuals and groups in the private sector and with State or local governments; shall advise, consult with, and make recommendations reflecting its independent judgment to the Secretary.

Agenda

Day 1

The agenda for the March 16, 2016 meeting is as follows:

(1) The full Committee will meet briefly to discuss the working groups' business/task statements, which are listed under paragraph 3(a)-(i) below.

(2) Public comment period.

(3) Working groups will separately address the following task statements which are available for viewing at http://homeport.uscg.mil/merpac:

(a) Task Statement 30, Utilizing military education, training and assessment for the International Convention on Standards of Training, Certification and Watchkeeping for Seafarers and U.S. Coast Guard Certifications;

(b) Task Statement 58, Communication between external stakeholders and the mariner credentialing program, as it relates to the National Maritime Center;

(c) Task Statement 81, Development of Competency Requirements for vessel personnel working Within the Polar Regions;

(d) Task Statement 87, Review of policy documents providing guidance on the implementation of the December 24, 2013 International Convention on Standards of Training, Certification and Watchkeeping and Changes to National Endorsements rulemaking;

(e) Task Statement 88, Mariner occupational health risk study analysis to further develop policy guidance on mariner fitness; and

(f) Task Statement 89, Review and update of the International Maritime Organization's Maritime Safety Committee Circular MSC/Circ.1014, “Guidelines on Fatigue Mitigation and Management”;

(g) Task Statement 90, Review of IMO Model Courses Being Validated by the IMO HTW Subcommittee; and

(h) Task Statement 91, Merchant Mariner Credential Expiration Harmonization.

(4) Reports of working groups. At the end of the day, the working groups will report to the full Committee on what was accomplished in their meetings. The full Committee will not take action on these reports on this date. Any official action taken as a result of these working group meetings will be taken on day 2 of the meeting.

(5) Public comment period

(6) Adjournment of meeting.

Day 2

The agenda for the March 17, 2016, full Committee meeting is as follows:

(1) Introduction;

(2) Swear in newly appointed Committee members;

(3) Remarks from Coast Guard Leadership;

(4) Designated Federal Officer announcements;

(5) Roll call of Committee members and determination of a quorum;

(6) Reports from the following working groups;

(a) Task Statement 30, Utilizing military education, training and assessment for the International Convention on Standards of Training, Certification and Watchkeeping for Seafarers and U.S. Coast Guard Certifications;

(b) Task Statement 58, Communication between external stakeholders and the mariner credentialing program, as it relates to the National Maritime Center;

(c) Task Statement 81, Development of competency requirements for vessel personnel working within the Polar Regions;

(d) Task Statement 84, Correction of merchant mariner credentials issued with clear errors; and

(e) Task Statement 87, Review of policy documents providing guidance on the implementation of the December 24, 2013 International Convention on Standards of Training, Certification and Watchkeeping and Changes to National Endorsements rulemaking.

(f) Task Statement 88, Mariner occupational health risk study analysis to further develop policy guidance on mariner fitness

(g) Task Statement 89, Review and update of International Maritime Organization's Maritime Safety Committee Circular MSC/Circ.1014, “Guidelines on Fatigue Mitigation and Management”;

(h) Task Statement 90, Review of IMO Model Courses Being Validated by the IMO HTW Subcommittee; and

(i) Task Statement 91, Merchant Mariner Credential Expiration Harmonization.

(6) Other items for discussion:

(a) Report on the Implementation of the 2010 Amendments to the International Convention on Standards of Training, Certification and Watchkeeping;

(b) Report on National Maritime Center activities from the National Maritime Center Commanding Officer, such as the net processing time it takes for mariners to receive their credentials after application submittal;

(c) Report on Mariner Credentialing Program Policy Division activities, such as its current initiatives and projects;

(d) Report on International Maritime Organization/International Labor Organization issues related to the merchant marine industry; and

(e) Briefings about on-going Coast Guard projects related to personnel in the U.S. merchant marine.

(7) New Business

(a) New task statement—“The Review of Merchant Marine Personnel Advisory Committee Recommendations”;

(b) New task statement—“Electronic Chart Systems Training Requirements”; and

(c) New task statement—“Color Vision Critical Duties/Tasks for Mariners Required to Meet the Standards of 46 CFR 10.305(a) and 10.305(b)”.

(8) Public comment period.

(9) Discussion of working group recommendations. The Committee will review the information presented on each issue, deliberate on any recommendations presented by the working groups and approve/formulate recommendations for the Department's consideration. Official action on these recommendations may be taken on this date.

(10) Closing remarks/plans for next meeting.

(11) Adjournment of meeting.

A public comment period will be held during each Working Group and full Committee meeting concerning matters being discussed.

Public comments will be limited to 3 minutes per speaker. Please note that the public comment periods will end following the last call for comments. Please contact Mr. Davis Breyer, listed in the FOR FURTHER INFORMATION CONTACT section, to register as a speaker.

Dated: February 19, 2016.
J. G. Lantz,
Director of Commercial Regulations and Standards, United States Coast Guard.

[FR Doc. 2016-03816 Filed 2-23-16; 8:45 am]

BILLING CODE 9110-04-P